ENVIRONMENTAL PROTECTION AGENCY

[FRL-7516-6]

Science Advisory Board, Environmental Economics Advisory Committee, Advisory Panel on the Environmental Economics Research Strategy; Request for Nominations

AGENCY: Environmental Protection Agency (EPA).

ACTION: Notice.

SUMMARY: The EPA Science Advisory Board (SAB) is establishing a panel to review the EPA's Environmental Economics Research Strategy. The panel will consist of members of the EPA SAB Environmental Economics Advisory Committee (EEAC) to which will be added additional experts to constitute the Advisory Panel on the Environmental Economics Research Strategy (APEERS).

DATES: Nominations should be submitted no later than July 14, 2003.

ADDRESSES: Nominations should be submitted in electronic format through the Form for Nominating Individuals to Panels of the EPA Science Advisory Board provided on the SAB Web site, http://www.epa.gov/sab. To be considered, all nominations must include the information required on that form. Anyone who is unable to submit nominations via this form may contact Thomas O. Miller, Designated Federal Officer as indicated below.

FOR FURTHER INFORMATION CONTACT: Any member of the public wishing further information regarding this Request for Nominations may contact Thomas O. Miller, Designated Federal Officer (DFO), via telephone/voice mail at (202) 564-4558; or via e-mail at miller.tom@epa.gov.

SUPPLEMENTARY INFORMATION:

Summary: The U.S. Environmental Protection Agency (EPA) Science Advisory Board is establishing a panel to review EPA's Environmental Economics Research Strategy (EERS). The panel will consist of members of the SAB Environmental Economics Advisory Committee to which will be added experts to form the Advisory Panel on the Environmental Economics Research Strategy (APEERS). The Strategy draws together all relevant research needs of the EPA offices and laboratories into an understandable framework for guiding EPA's research planning and implementation in this topical area.

The SAB was established by 42 U.S.C. 4365 to provide independent scientific and technical advice, consultation, and recommendations to the EPA Administrator on the technical basis for Agency positions and regulations. General information about the SAB can be found in the SAB Web site at http://www.epa.gov/sab.

The project the panel will undertake is expected to be no more than a six-month effort. Over that period, the panel will comply with the provisions of FACA and all appropriate SAB procedural policies, including the SAB process for panel formation described in the Overview of the Panel Formation Process at the Environmental Protection Agency Science Advisory Board, which can found on the SAB's Web site at: http://www.epa.gov/sab/pdf/ec02010.pdf. Those selected to serve on the panel will review the draft materials identified in this notice and respond to the charge questions provided below. Upon completion, the panel's report will be submitted to the SAB Executive Committee for final approval.

Background: The EPA Science Advisory Board was asked by the National Center for Environmental Economics (NCEE) and the Office of Research and Development's National Center for Environmental Research (ORD/NCER) to review the EPA Environmental Economics Research Strategy.

The “Strategy” integrates together all relevant research conducted by EPA offices and laboratories and provides a blueprint for economic research priorities for the agency. The Strategy “* * * identifies priorities and research gaps, evaluates research tools, sets out strategic research objectives and suggests responsibilities and sequences for conducting or sponsoring research.” These research needs were developed from an initial survey of EPA economists who identified research topics for consideration. The top ten categories identified were: Valuation of reduced morbidity benefits; environmental behavior and decision-making; valuation of ecological benefits; benefits of environmental information disclosure; valuation of mortality benefits; market mechanisms and incentives other than trading; green accounting-international trade-finance; market mechanisms and incentives—trading; discounting-intergenerational equity; and risk and uncertainty techniques-integration with valuation. Research will be conducted externally through cooperative agreements, grants, contracts, and internally at EPA's National Center for Environmental Economics and in relevant EPA Office of Research and Development (ORD) National Laboratories and Centers.

The identified research priorities were evaluated by EPA staff in relation to four criteria in order to select the areas that EPA would emphasize in its research program. The selection criteria used require that research must: be needed by EPA, state, or other clients; reflect a gap in the existing knowledge base (i.e., not have been conducted already); be scientifically feasible and potentially of high quality; and be related to EPA's mission in a policy-relevant context and be able to come to conclusions on the topic within 5 to 10 years. The selected objectives for EPA's economics research focus, include: environmental (compliance) behavior and decision-making; benefits of environmental information disclosure; ecological valuation; health valuation; and market mechanisms and incentives. The Science Advisory Board Review Draft of EPA's research strategy for environmental economics can be found at the SAB's Web site at http://www.epa.gov/sab/.

Proposed Charge to the Panel: The following is the accepted charge that has been given to the Science Advisory Board by the Agency:

Charge Question 1: For each of the major subject areas described in the EERS, EPA has attempted to articulate the research questions most relevant to EPA that can be effectively addressed given the available tools and resources. In this context, please address the following for the key research questions identified in the EERS in each of the subject areas.

(a) Is the characterization of each of the major research gaps in the literature for the key subject areas of relevance to EPA's economic sciences, as identified in the EERS adequate? Will these priorities and implementation approaches effectively address the areas of greatest scientific uncertainty?

(b) Given the implementation strategy laid out in the EERS;

—To what extent is this research scientifically feasible at a high level of quality?

—How successful is this research likely to be in answering policy-relevant questions for EPA within the next 8-10 years?

(c) What improvements in the design and implementation of the EERS would make each research project more useful to EPA and other environmental management agencies?

Charge Question 2: What methodogical research needs in valuation should EPA investigate as a complement to the needs derived from the strategy interviews?

In the valuation areas, EPA's expressed needs are primarily practical: better values for ecological and human health impacts of environmental policies. However, most grant proposals (and most journal articles) investigate practical questions as well as methodological or other questions (e.g. incentive compatibility or elicitation methods in stated preference or more refined models of behavior in revealed preference). EPA does not expect that researchers will propose to estimate only the practical values that EPA needs, but will also propose to investigate methodological issues. Since the research strategy interviews did not elicit methodological needs, and EPA believes that improving methodology while generating practical values provides useful synergy, further input on prioritizing methodological issues from the EEAC would be useful.

Charge Question 3: Can the SAB identify by consensus any environmental economics issues of overriding importance to EPA that the EERS has missed, and that EPA should address provided that more resources be made available for Environmental Economics Research? Could the SAB explain why this (these) issue(s) should be of high concern to EPA's research programs.

Charge Question 4: What is the best way for EPA to communicate the results of the research strategy and plans for achieving its long-term research goals to the wider research community, and other potential users?

SAB Request for Nominations: This review will be conducted by a panel comprised of the EPA SAB's Environmental Economics Advisory Committee, an existing Standing Committee of the Board. Because some EEAC members may not be able to participate, the SAB may choose to include on the panel, persons who are members of other existing SAB Committees, or who have been nominated by the public, for panel inclusion, in response to this notice. Therefore, the EPA SAB is requesting nominations of individuals who are recognized, national-level experts in environmental economics who specialize in one or more of the following areas:

(a) Environmental (compliance) behavior and decision-making (e.g., why and how firms react to government intervention in markets, voluntary programs, perceptions of environmentally related costs);

(b) Benefits of environmental information disclosure;

(c) Ecological valuation;

(d) Human health valuation;

(e) Market mechanisms and incentives;

(f) Cost analysis;

(g) Benefit-Cost analysis and Uncertainty analysis in BCA;

(h) Discounting and intergenerational equity.

Process and Deadline for Submitting Nominations: Any interested person or organization may nominate qualified individuals to add expertise in the above areas for the Advisory Panel on the Environmental Economics Research Strategy (APEERS).

Anyone who is unable to submit nominations in electronic format may contact Thomas O. Miller as indicated in this FR notice. Nominations should be submitted before July 14, 2003. Any questions concerning either this process or any other aspects notice should be directed to Thomas O. Miller, as indicated in this FR notice.

The EPA Science Advisory Board will acknowledge receipt of these nominations to the nominators. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for the specific expertise to add to the Advisory Panel on the Environmental Economics Research Strategy (APEERS).

For the EPA SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) scientific credibility and impartiality; (c) availability and willingness to serve; (d) absence of financial conflicts of interest; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will be asked to attend one public meeting and two public teleconferences during this review.

Dated: June 16, 2003.
Vanessa T. Vu,
Director, EPA Science Advisory Board Staff Office.

[FR Doc. 03-15766 Filed 6-20-03; 8:45 am]

BILLING CODE 6560-50-P